DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Information and Communication Technology Survey.

Form Number(s): ICT-1(S), ICT-1(M), ICT-1(L).

OMB Control Number: 0607-0909.

Type of Request: Extension of a currently approved collection.

Burden Hours: 80,040.

Number of Respondents: 46,000.

Average Hours per Response: 1 hour and 45 minutes.

Needs and Uses: Economic policymakers are concerned about the lack of available data related to e-business infrastructure investment. Such data are critical for evaluating productivity growth, changes in industrial capacity, and current economic developments. Rapid advances in Information and Communication Technology (ICT) equipment have resulted in these assets having short useful lives and being replaced much more quickly than other types of equipment. Companies are expensing the full cost of such assets during the current annual period rather than capitalizing the value of such assets and expensing the cost over two or more years. In some cases this is due not only to the short useful life of the asset, but also to the fact that companies have varying dollar levels for capitalization.

The Annual Capital Expenditures Survey (ACES) (OMB Project 0607-0782) currently collects summary data on business capital expenditures annually and detailed data on types of structures and equipment every five years. The fact that the ACES program does not include non-capitalized expenditures for e-business infrastructure and infrequently collects detailed data on types of structures and equipment creates serious data gaps. To fill these gaps and as a supplement to the ACES survey, the Census Bureau created the Information and Communication Technology Survey (ICTS). The ICTS uses the ACES sampling, follow-up and estimation methodologies including mailing to the same employer companies.

Data users tell us that they need comprehensive and consistent data on investment by all private nonfarm businesses in capitalized and non-capitalized ICT equipment and software. The objectives of the ICTS are:

(a) To provide estimates of capitalized and non-capitalized ICT equipment expenditures for all private nonfarm sectors of the economy at 3-digit and selected 4-digit North American Industry Classification System (NAICS) levels;

(b) To base the survey on a probability sample that yields measures of statistical reliability of the survey estimates;

(c) To establish an annual enterprise level data series with the level of detail, coverage and quality which was previously unavailable;

(d) To provide detail data on capitalized and non-capitalized ICT expenditures for estimating the national income and product accounts, estimating the productivity of U.S. industries, evaluating fiscal and monetary policy, and conducting research using capitalized and non-capitalized expenditures data; and

(e) To provide industry analysts with necessary data for market analysis, economic forecasting, product development, and business planning.

This request is for a continuation of a currently approved collection covering the 2007-2009 ICTS (conducted in fiscal years 2008-2010). The only change from the previous ICTS is the incorporation of the 2007 North American Industry Classification System (NAICS) into the 2009 ICTS. For both the 2007 and 2008 ICTS, data will be collected and published based on the 2002 NAICS. Beginning with the 2009 ICTS, however, we will collect and publish data based on the 2007 NAICS. Industries will comprise 3-digit and selected 4-digit NAICS codes.

The annual ICTS survey collects data on two categories of non-capitalized expenses (purchases; and operating leases and rental payments), for four types of information and communication technology equipment and software (computers and peripheral equipment; ICT equipment, excluding computers and peripherals; electromedical and electrotherapeutic apparatus; and computer software, including payroll associated with software development). The survey also collects capital expenditures data on the four types of ICT equipment and software cited above. Only nonfarm, non-governmental companies, organizations, and associations operating in the United States are included in this survey.

To collect data, the Census Bureau will rely primarily on mail out/mail back survey forms. Employer companies will be mailed one of three forms based on their diversity of operations, i.e. the number of industries in which they have payroll. All employer forms will have the 3-digit or selected 4-digit NAICS industries imprinted on the form to minimize the need for industry self coding. Companies will be asked to report data for industries in which they operate and incurred capitalized and non-capitalized expenditures.

Companies that operate in only one industry will receive an ICT-1(S) form. These companies will not be asked to report ICT expenditures by industry, this will eliminate the need for industry self coding. Companies that operate in more than one, but less than nine industries will receive an ICT-1(M) form. Companies that operate in nine or more industries will receive an ICT-1(L) form.

The ICTS is an important part of the Federal Government's effort to improve and supplement ongoing statistical programs. The Bureau of Economic Analysis (BEA), Federal Reserve Board, Bureau of Labor Statistics and industry analysts use these data to evaluate productivity and economic growth prospects. In addition, the ICTS provides improved source data significant to BEA's estimate of the investment component of Gross Domestic Product, capital stock estimates, and capital flow tables. Other Federal agencies, private industry organizations, and academic researchers use the survey results for analyzing and studying: Past and current economic performance; Short-term economic forecasts; Productivity; Long-term economic growth; Tax policy; Capacity utilization; Business fixed capital stocks and capital formation; International competitiveness and trade policy; Market research; and Financial analysis.

Affected Public: Business or other for-profit organizations; Not-for-profit institutions.

Frequency: Annually.

Respondent's Obligation: Mandatory.

Legal Authority: Title 13 U.S.C. Sections 182, 224 & 225.

OMB Desk Officer: Brian Harris-Kojetin, (202) 395-7314.

Copies of the above information collection proposal can be obtained by calling or writing Diana Hynek, Departmental Paperwork Clearance Officer, (202) 482-0266.

Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: November 2, 2007.
Gwellnar Banks,
Management Analyst, Office of the Chief Information Officer.

[FR Doc. E7-21947 Filed 11-7-07; 8:45 am]

BILLING CODE 3510-07-P